DEPARTMENT OF ENERGY

Federal Energy Regulatory Commission

Combined Notice of Filings #1

Take notice that the Commission received the following electric rate filings:

Docket Numbers: ER10-1910-014; ER10-1911-014.

Applicants: Duquesne Light Company, Duquesne Power, LLC.

Description: Updated Market Power Analyses for Northeast Region of the Duquesne Sellers.

Filed Date: 2/15/17.

Accession Number: 20170215-5157.

Comments Due: 5 p.m. ET 4/17/17.

Docket Numbers: ER17-969-001.

Applicants: Southwest Power Pool, Inc.

Description: Tariff Amendment: 3165 Otter Tail Power Company NITSA and NOA Notice of Cancellation to be effective 1/1/2017.

Filed Date: 2/15/17.

Accession Number: 20170215-5110.

Comments Due: 5 p.m. ET 3/8/17.

Docket Numbers: ER17-974-000.

Applicants: Pacific Gas and Electric Company.

Description: § 205(d) Rate Filing: WAPA Work Performance Agreement for Cottonwood-Olinda Line 1 and 2 (RS 228) to be effective 2/16/2017.

Filed Date: 2/15/17.

Accession Number: 20170215-5124.

Comments Due: 5 p.m. ET 3/8/17.

Docket Numbers: ER17-975-000.

Applicants: Southwestern Public Service Company.

Description: § 205(d) Rate Filing: SPS-GSEC-RBEC-IA McDowell-688-0.0.0 to be effective 2/17/2017.

Filed Date: 2/16/17.

Accession Number: 20170216-5067.

Comments Due: 5 p.m. ET 3/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2017.
Nathaniel J. Davis, Sr.,
Deputy Secretary.

[FR Doc. 2017-03563 Filed 2-23-17; 8:45 am]

BILLING CODE 6717-01-P